DEPARTMENT OF TRANSPORTATION

Federal Aviation Administration

14 CFR Part 39

[Docket No. FAA-2024-1887; Project Identifier MCAI-2023-01237-T]

RIN 2120-AA64

Airworthiness Directives; Embraer S.A. (Type Certificate Previously Held by Yaborã Indústria Aeronáutica S.A.; Embraer S.A.) Airplanes

AGENCY: Federal Aviation Administration (FAA), DOT.

ACTION: Notice of proposed rulemaking (NPRM).

SUMMARY: The FAA proposes to supersede Airworthiness Directive (AD) 2022-25-07, which applies to all Embraer S.A. Model ERJ 170-100 LR, -100 STD, -100 SE, and -100 SU airplanes; and Model ERJ 170-200 LR, -200 SU, -200 STD, and -200 LL airplanes. AD 2022-25-07 requires revising the existing maintenance or inspection program, as applicable, to incorporate new or more restrictive airworthiness limitations. Since the FAA issued AD 2022-25-07, the FAA has determined that new or more restrictive airworthiness limitations are necessary. This proposed AD would continue to require all actions in AD 2022-25-07 and would require revising the existing maintenance or inspection program, as applicable, to incorporate new or more restrictive airworthiness limitations, and certain structural modifications as specified in an Agência Nacional de Aviação Civil (ANAC) AD, which is proposed for incorporation by reference (IBR). The FAA is proposing this AD to address the unsafe condition on these products.

DATES: The FAA must receive comments on this proposed AD by September 3, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-1887; or in person at Docket Operations between 9 a.m. and 5 p.m., Monday through Friday, except Federal holidays. The AD docket contains this NPRM, the mandatory continuing airworthiness information (MCAI), any comments received, and other information. The street address for Docket Operations is listed above.

Material Incorporated by Reference:

• For ANAC material, contact National Civil Aviation Agency (ANAC), Aeronautical Products Certification Branch (GGCP), Rua Dr. Orlando Feirabend Filho, 230—Centro Empresarial Aquarius—Torre B—Andares 14 a 18, Parque Residencial Aquarius, CEP 12.246-190—São José dos Campos—SP, Brazil; telephone 55 (12) 3203-6600; email pac@anac.gov.br; website anac.gov.br/en/. You may find this material on the ANAC website at sistemas.anac.gov.br/certificacao/DA/DAE.asp.

• For Embraer material, contact Embraer S.A., Technical Publications Section (PC 060), Av. Brigadeiro Faria Lima, 2170—Putim—12227-901 São Jose dos Campos—SP—Brasil; telephone +55 12 3927-5852 or +55 12 3309-0732; fax +55 12 3927-7546; email distrib@embraer.com.br; internet flyembraer.com.

• You may view this material at the FAA, Airworthiness Products Section, Operational Safety Branch, 2200 South 216th St., Des Moines, WA. For information on the availability of this material at the FAA, call 206-231-3195. It is also available at regulations.gov under Docket No. FAA-2024-1887.

FOR FURTHER INFORMATION CONTACT: Krista Greer, Aviation Safety Engineer, FAA, 1600 Stewart Avenue, Suite 410, Westbury, NY 11590; telephone 206-231-3221; email Krista.Greer@faa.gov.

SUPPLEMENTARY INFORMATION:

Comments Invited

The FAA invites you to send any written relevant data, views, or arguments about this proposal. Send your comments to an address listed under ADDRESSES. Include “Docket No. FAA-2024-1887; Project Identifier MCAI-2023-01237-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Krista Greer, Aviation Safety Engineer, FAA, 1600 Stewart Avenue, Suite 410, Westbury, NY 11590; telephone 206-231-3221; email Krista.Greer@faa.gov. Any commentary that the FAA receives that is not specifically designated as CBI will be placed in the public docket for this rulemaking.

Background

The FAA issued AD 2022-25-07, Amendment 39-22263 (87 FR 77493, December 19, 2022) (AD 2022-25-07), for all Embraer S.A. Model ERJ 170-100 LR, -100 STD, -100 SE, and -100 SU airplanes; and Model ERJ 170-200 LR, -200 SU, -200 STD, and 200 LL airplanes. AD 2022-25-07 was prompted by an MCAI originated by ANAC, which is the aviation authority for Brazil. ANAC issued AD 2022-02-01, dated February 9, 2022 (ANAC AD 2022-02-01) (which corresponds to FAA AD 2022-25-07), to correct an unsafe condition.

AD 2022-25-07 requires revising the existing maintenance or inspection program, as applicable, to incorporate new or more restrictive airworthiness limitations. The FAA issued AD 2022-25-07 to address fatigue cracking of various principal structural elements (PSEs); such cracking could result in reduced structural integrity of the airplane. AD 2022-25-07 addresses safety-significant latent failures; such failures, in combination with one or more other specified failures or events, could result in a hazardous or catastrophic failure condition of avionics, hydraulic systems, fire detection systems, fuel systems, or other critical systems. Furthermore, AD 2022-25-07 addresses potential ignition sources inside fuel tanks caused by latent failures, alterations, repairs, or maintenance actions; such failures, in combination with flammable fuel vapors, could result in fuel tank explosions and consequent loss of the airplane.

Actions Since AD 2022-25-07 Was Issued

Since the FAA issued AD 2022-25-07, ANAC superseded AD 2022-02-01 and issued ANAC AD 2023-12-01, effective December 15, 2023 (ANAC AD 2023-12-01) (referred to after this as the MCAI), for certain Embraer S.A. Model ERJ 170-100 LR, -100 SE, -100 STD, and -100 SU airplanes; and Model ERJ 170-200 LR, -200 STD, -200 SU, and -200 LL airplanes. The MCAI states that new or more restrictive airworthiness limitations have been developed for Part 1—Certification Maintenance Requirements, Part 2—Airworthiness Limitation Inspections (ALI)—Structures, Part 3—Fuel System Limitation Items, and Part 4—Life Limited Items of the EMBRAER 170/175 maintenance review board report (MRBR).

AD 2022-25-07 superseded AD 2019-25-16, Amendment 39-21015 (85 FR 453, January 6, 2020) (AD 2019-25-16). AD 2019-25-16 required incorporating Part 1—Certification Maintenance Requirements, Part 2—Airworthiness Limitation Inspections (ALI)—Structures, Part 3—Fuel System Limitation Items, and Part 4—Life Limited Items of the EMBRAER 170/175 MRBR.

Since AD 2022-25-07 only required incorporating a new Part 2—Airworthiness Limitation Inspections (ALI)—Structures of the EMBRAER 170/175 MRBR only terminated Part 2—Airworthiness Limitation Inspections (ALI)—Structures of the EMBRAER 170/175 MRBR, as required by AD 2019-25-16.

Therefore, this proposed AD would continue to require the airworthiness limitations specified in paragraphs (g) and (i) of AD 2022-25-07 until the newest airworthiness limitations for Parts 1 through 4 of the EMBRAER 170/175 MRBR are incorporated as specified in paragraph (l) of this proposed AD.

The MCAI also revised the applicability to specify airplanes having only certain serial numbers rather than all serial numbers are affected. The MCAI noted that airplanes with an original airworthiness certificate or original export certificate of airworthiness issued on or after July 14, 2023, must comply with the airworthiness limitations specified as part of the airworthiness certification of those airplanes.

This proposed AD was prompted by a determination that new or more restrictive airworthiness limitations are necessary. The FAA is proposing this AD to address fatigue cracking of various PSEs; such cracking could result in reduced structural integrity of the airplane. The FAA is also proposing this AD to address safety significant latent failures; such failures, in combination with one or more other specified failures or events, could result in a hazardous or catastrophic failure condition of avionics, hydraulic systems, fire detection systems, fuel systems, or other critical systems. Furthermore, the FAA is proposing this AD to address potential ignition sources inside fuel tanks caused by latent failures, alterations, repairs, or maintenance actions; such failures, in combination with flammable fuel vapors, could result in fuel tank explosions and consequent loss of the airplane. You may examine the MCAI in the AD docket at regulations.gov under Docket No. FAA-2024-1887.

Other Relevant Rulemaking

ANAC has also issued ANAC AD 2022-05-02, effective May 13, 2022 (ANAC AD 2022-05-02), which corresponds to FAA AD 2022-11-51, Amendment 39-22074 (87 FR 33623, June 3, 2022) (AD 2022-11-51). AD 2022-11-51 applies to certain Embraer S.A. Model ERJ 170-200 STD, ERJ 170-200 LR, ERJ 170-200 SU, and ERJ 170-200 LL airplanes. AD 2022-11-51 requires a detailed inspection for cracks of affected wing tip connections, corrective actions if necessary, and revision of the existing maintenance or inspection program. Incorporating MRBR task number 57-30-002-0002, “Enhanced Wingtip to Wing Spar Attachments—Internal” is part of the requirements of paragraph (g) of AD 2022-11-51 and paragraph (h)(6) of AD 2022-11-51 includes exceptions for that task. The FAA issued AD 2022-11-51 to address cracks that could develop on the wing tip connection area that can affect its structural integrity to the point of an in-flight detachment, which, even if sufficient controllability of the airplane is maintained for the safe continuation of the flight, could result in the detached part damaging other airplane parts and affecting controllability, as well as damaging property and injuring persons on the ground.

Since all airplanes affected by AD 2022-11-51 already incorporated MRBR task number 57-30-002-0002, this proposed AD does not require incorporating MRBR task number 57-30-002-0002 as part of the revision of the existing maintenance or inspection program required by paragraphs (i) and (l) of this proposed AD.

Related Material Under 1 CFR Part 51

The FAA reviewed ANAC AD 2023-12-01, effective December 15, 2023. This material specifies new or more restrictive airworthiness limitations for certification maintenance requirements, airplane structures, fuel systems, and safe life limits.

This proposed AD would also require ANAC AD 2022-02-01, effective February 9, 2022, which the Director of the Federal Register approved for incorporation by reference as of January 23, 2023 (87 FR 77493, December 19, 2022).

This proposed AD would also require Appendix A—Airworthiness Limitations of EMBRAER 170/175 Maintenance Review Board Report (MRBR), MRB-1621, Revision 14, dated September 27, 2018; and Embraer Temporary Revision (TR) 14-1, dated November 13, 2018, to Part 4—Life-Limited Items, of Appendix A of EMBRAER 170/175 Maintenance Review Board Report (MRBR), MRB-1621, Revision 14, dated September 27, 2018; which the Director of the Federal Register approved for incorporation by reference as of February 10, 2020 (85 FR 453, January 6, 2020).

This material is reasonably available because the interested parties have access to it through their normal course of business or by the means identified in ADDRESSES.

FAA's Determination

This product has been approved by the aviation authority of another country and is approved for operation in the United States. Pursuant to the FAA's bilateral agreement with this State of Design Authority, it has notified the FAA of the unsafe condition described in the MCAI referenced above. The FAA is issuing this NPRM after determining that the unsafe condition described previously is likely to exist or develop in other products of the same type design.

Proposed AD Requirements in This NPRM

This proposed AD would retain all requirements of AD 2022-25-07. This proposed AD would also require revising the existing maintenance or inspection program, as applicable, to incorporate additional new or more restrictive airworthiness limitations, which are specified in ANAC AD 2023-12-01 already described, as proposed for incorporation by reference. Any differences with ANAC AD 2023-12-01 are identified as exceptions in the regulatory text of this AD.

This proposed AD would require revisions to certain operator maintenance documents to include new actions (e.g., inspections) and Critical Design Configuration Control Limitations (CDCCLs). Compliance with these actions and CDCCLs is required by 14 CFR 91.403(c). For airplanes that have been previously modified, altered, or repaired in the areas addressed by this proposed AD, the operator may not be able to accomplish the actions described in the revisions. In this situation, to comply with 14 CFR 91.403(c), the operator must request approval for an alternative method of compliance (AMOC) according to paragraph (n)(1) of this proposed AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate ANAC AD 2023-12-01 by reference in the FAA final rule. This proposed AD would, therefore, require compliance with ANAC AD 2023-12-01 through that incorporation, except for any differences identified as exceptions in the regulatory text of this proposed AD. Material required by ANAC AD 2023-12-01 for compliance will be available at regulations.gov by searching for and locating Docket No. FAA-2024-1887 after the FAA final rule is published.

Airworthiness Limitation ADs Using the New Process

The FAA's process of incorporating by reference MCAI ADs as the primary source of information for compliance with corresponding FAA ADs has been limited to certain MCAI ADs (primarily those with service bulletins as the primary source of information for accomplishing the actions required by the FAA AD). However, the FAA is now expanding the process to include MCAI ADs that require a change to airworthiness limitation documents, such as airworthiness limitation sections.

For these ADs that incorporate by reference an MCAI AD that changes airworthiness limitations, the FAA requirements are unchanged. Operators must revise the existing maintenance or inspection program, as applicable, to incorporate the information specified in the new airworthiness limitation document. The airworthiness limitations must be followed according to 14 CFR 91.403(c) and 91.409(e).

The previous format of the airworthiness limitation ADs included a paragraph that specified that no alternative actions (e.g., inspections), intervals, or CDCCLs may be used unless the actions, intervals, and CDCCLs are approved as an AMOC in accordance with the procedures specified in the AMOCs paragraph under “Additional AD Provisions.” This new format includes a “New Provisions for Alternative Actions, Intervals, and CDCCLs” paragraph that does not specifically refer to AMOCs, but operators may still request an AMOC to use an alternative action, interval, or CDCCL.

Costs of Compliance

The FAA estimates that this AD, if adopted as proposed, would affect 662 airplanes of U.S. registry. The FAA estimates the following costs to comply with this proposed AD:

The FAA estimates the following costs to comply with the retained actions from AD 2022-25-07:

Estimated Costs for Required Actions *
Action | Labor cost | Parts cost | Cost per product | Cost on U.S. operators
Retained structural modifications | 196 work-hours × $85 per hour = $16,660 | $98,860 | $115,520 | Up to $76,474,240.
* Table does not include estimated costs for revising the existing maintenance or inspection program.

The FAA estimates the total cost per operator for the retained revision of the existing maintenance or inspection program from AD 2022-25-07 to be $7,650 (90 work-hours × $85 per work-hour).

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate.

The FAA estimates the total cost per operator for the new proposed actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-25-07, Amendment 39-22263 (87 FR 77493, December 19, 2022); and

b. Adding the following new AD:

Embraer S.A. (Type Certificate Previously Held by Yaborã Indústria Aeronáutica S.A.; Embraer S.A.): Docket No. FAA-2024-1887; Project Identifier MCAI-2023-01237-T.

(a) Comments Due Date

The FAA must receive comments on this airworthiness directive (AD) by September 3, 2024.

(b) Affected ADs

This AD replaces AD 2022-25-07, Amendment 39-22263 (87 FR 77493, December 19, 2022) (AD 2022-25-07).

(c) Applicability

This AD applies to Embraer S.A. Model ERJ 170-100 LR, -100 SE, -100 STD, and -100 SU airplanes; and Model ERJ 170-200 LR, -200 STD, -200 SU, and -200 LL airplanes; certificated in any category, with manufacturer serial numbers 17000002, 17000004 through 17000013 inclusive, and 17000015 through 17000948 inclusive.

(d) Subject

Air Transport Association (ATA) of America Code 05, Time Limits/Maintenance Checks.

(e) Unsafe Condition

This AD was prompted by a determination that new or more restrictive airworthiness limitations are necessary. The FAA is issuing this AD to address fatigue cracking of various principal structural elements (PSEs); such cracking could result in reduced structural integrity of the airplane. The FAA is also issuing this AD to address safety significant latent failures; such failures, in combination with one or more other specified failures or events, could result in a hazardous or catastrophic failure condition of avionics, hydraulic systems, fire detection systems, fuel systems, or other critical systems. Furthermore, the FAA is issuing this AD to address potential ignition sources inside fuel tanks caused by latent failures, alterations, repairs, or maintenance actions; such failures, in combination with flammable fuel vapors, could result in fuel tank explosions and consequent loss of the airplane.

(f) Compliance

Comply with this AD within the compliance times specified, unless already done.

(g) Retained Revision of the Existing Maintenance or Inspection Program From AD 2019-25-16, Amendment 39-21015 (85 FR 453, January 6, 2020) (AD 2019-25-16), With No Changes

This paragraph restates the requirements of paragraph (g) of AD 2022-25-07, with no changes. For Model ERJ 170-100 LR, -100 STD, -100 SE, and -100 SU airplanes; and Model ERJ 170-200 LR, -200 SU, -200 STD, and -200LL airplanes; manufacturer serial numbers 17000002, 17000004 through 17000013 inclusive, and 17000015 through 17000761 inclusive: Within 90 days after February 10, 2020 (the effective date of AD 2019-25-16), revise the existing maintenance or inspection program, as applicable, to incorporate the information specified in Part 1—Certification Maintenance Requirements, Part 2—Airworthiness Limitation Inspections (ALI)—Structures, Part 3—Fuel System Limitation Items, and Part 4—Life Limited Items; and EMBRAER Temporary Revision (TR) 14-1, dated November 13, 2018, to Part 4—Life Limited Items; of Appendix A of the EMBRAER 170/175 MRBR, MRB-1621, Revision 14, dated September 27, 2018 (EMBRAER 170/175 MRB-1621, Revision 14). The initial compliance time for doing the tasks is at the later of the times specified in paragraphs (g)(1) and (2) of this AD.

(1) Within the applicable times specified in EMBRAER 170/175 MRB-1621, Revision 14. For the purposes of this AD, the initial compliance times (identified as “Threshold” or “T” in EMBRAER 170/175 MRB-1621, Revision 14) are expressed in “total flight cycle” or “total flight hours,” as applicable.

(2) Within 90 days or 600 flight cycles after February 10, 2020 (the effective date of AD 2019-25-16), whichever occurs later.

(h) Retained Restrictions on Alternative Actions, Intervals, and CDCCLs, With No Changes

This paragraph restates the requirements of paragraph (h) of AD 2022-25-07, with no changes. Except as required by paragraphs (i) and (l) of this AD: After the existing maintenance or inspection program has been revised as required by paragraph (g) of this AD, no alternative actions (e.g., inspections), intervals, or CDCCLs may be used unless the actions, intervals, and CDCCLs are approved as an AMOC in accordance with the procedures specified in paragraph (n)(1) of this AD.

(i) Retained Revision of the Existing Maintenance or Inspection Program, With No Changes

This paragraph restates the requirements of paragraph (i) of AD 2022-25-07, with no changes. For Embraer S.A. Model ERJ 170-100 LR, -100 STD, -100 SE, and -100 SU airplanes; and Model ERJ 170-200 LR, -200 SU, -200 STD, and -200 LL airplanes: Except as specified in paragraph (j) of this AD, comply with all required actions and compliance times specified in, and in accordance with, ANAC AD 2022-02-01, dated February 9, 2022 (ANAC AD 2022-02-01). Accomplishing the revision of the existing maintenance or inspection program required by this paragraph terminates the requirements for Part 2—Airworthiness Limitation Inspections (ALI)—Structures specified in paragraph (g) of this AD only. Accomplishing the revision of the existing maintenance or inspection program required by paragraph (l) of this AD terminates the requirements of this paragraph.

(j) Retained Exceptions to ANAC AD 2022-02-01

(1) Where ANAC AD 2022-02-01 refers to its effective date, this AD requires using January 23, 2023 (the effective date of AD 2022-25-07).

(2) The “Alternative method of compliance (AMOC)” section of ANAC AD 2022-02-01 does not apply to this AD.

(3) Where paragraph (b)(1) of ANAC AD 2022-02-01 specifies incorporating all airworthiness limitations in Part 2 of the material specified in paragraph (b)(1) of ANAC AD 2022-02-01, for this AD, do not incorporate the threshold and interval for maintenance review board report (MRBR) task number 57-30-002-0002, “Enhanced Wingtip to Wing Spar Attachments—Internal.”

Note 1 to paragraph (j)(3): AD 2022-11-51, Amendment 39-22074 (87 FR 33623, June 3, 2022) (AD 2022-11-51), requires, among other actions, incorporating alternate thresholds and intervals for MRBR task number 57-30-002-0002. The airplanes affected by MRBR task number 57-30-002-0002 are identified in paragraph (c) of AD 2022-11-51.

(k) Retained Provisions for Alternative Actions and Intervals, With a New Exception

This paragraph restates the requirements of paragraph (k) of AD 2022-25-07, with no changes. Except as required by paragraph (l) of this AD: After the existing maintenance or inspection program has been revised as required by paragraph (i) of this AD, no alternative actions (e.g., inspections), intervals, or CDCCLs are allowed unless they are approved as specified in paragraph (f) of ANAC AD 2022-02-01.

(l) New Revision of the Existing Maintenance or Inspection Program

Except as specified in paragraph (m) of this AD: Comply with all required actions and compliance times specified in, and in accordance with, Agência Nacional de Aviação Civil (ANAC) AD 2023-12-01, effective December 15, 2023 (ANAC AD 2023-12-01). Accomplishing the revision of the existing maintenance or inspection program required by this paragraph terminates the requirements in paragraphs (g) and (i) of this AD.

(m) Exceptions to ANAC AD 2023-12-01

(1) Where ANAC AD 2023-12-01 refers to its effective date, this AD requires using the effective date of this AD.

(2) Where paragraph (c) of ANAC AD 2023-12-01 refers to “no alternative inspections or inspection intervals may be used unless the alternative inspection or interval is published in revisions approved by ANAC of the MRB-1621 which are subsequent to Revision 19, dated July 14th, 2023, or approved as an alternative method of compliance (AMOC) in accordance with the procedures specified in paragraph (d) of this AD,” for this AD, replace that text with “no alternative actions (e.g., inspections), intervals, and CDCCLs may be used unless the alternative action (e.g., inspection), interval, or CDCCL is published in revisions approved by ANAC of the MRB-1621 which are subsequent to Revision 19, dated July 14th, 2023.”

(3) This AD does not adopt paragraph (d) of ANAC AD 2023-12-01.

(4) Where paragraph (b)(1) of ANAC AD 2023-12-01 specifies incorporating all airworthiness limitations in Part 2 of the service information specified in paragraph (b)(1) of ANAC AD 2023-12-01, for this AD, do not incorporate the threshold and interval for MRBR task number 57-30-002-0002, “Enhanced Wingtip to Wing Spar Attachments—Internal.”

Note 2 to paragraph (m)(4): AD 2022-11-51, requires, among other actions, incorporating alternate thresholds and intervals for MRBR task number 57-30-002-0002. The airplanes affected by MRBR task number 57-30-002-0002 are identified in paragraph (c) of AD 2022-11-51.

(n) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (o) of this AD. Information may be emailed to: 9-AVS-AIR-730-AMOC@faa.gov.

(2) Contacting the Manufacturer: For any requirement in this AD to obtain instructions from a manufacturer, the instructions must be accomplished using a method approved by the Manager, International Validation Branch, FAA; or ANAC; or ANAC's authorized Designee. If approved by the ANAC Designee, the approval must include the Designee's authorized signature.

(o) Additional Information

For more information about this AD, contact Krista Greer, Aviation Safety Engineer, FAA, 1600 Stewart Avenue, Suite 410, Westbury, NY 11590; telephone 206-231-3221; email Krista.Greer@faa.gov.

(p) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on [DATE 35 DAYS AFTER PUBLICATION OF THE FINAL RULE].

(i) Agência Nacional de Aviação Civil (ANAC) AD 2023-12-01, effective December 15, 2023.

(ii) [Reserved]

(4) The following material was approved for IBR on January 23, 2023 (87 FR 77493, December 19, 2022).

(i) ANAC AD 2022-02-01, effective February 9, 2022.

(ii) [Reserved]

(5) The following material was approved for IBR on February 10, 2020 (85 FR 453, January 6, 2020).

(i) Appendix A—Airworthiness Limitations of EMBRAER 170/175 Maintenance Review Board Report (MRBR), MRB-1621, Revision 14, dated September 27, 2018.

(ii) Embraer Temporary Revision (TR) 14-1, dated November 13, 2018, to Part 4—Life-Limited Items, of Appendix A of EMBRAER 170/175 Maintenance Review Board Report (MRBR), MRB-1621, Revision 14, dated September 27, 2018.

(6) For ANAC ADs, contact ANAC, Aeronautical Products Certification Branch (GGCP), Rua Dr. Orlando Feirabend Filho, 230—Centro Empresarial Aquarius—Torre B—Andares 14 a 18, Parque Residencial Aquarius, CEP 12.246-190—São José dos Campos—SP, Brazil; telephone 55 (12) 3203-6600; email pac@anac.gov.br; website anac.gov.br/en/. You may find this ANAC AD on the ANAC website at sistemas.anac.gov.br/certificacao/DA/DAE.asp.

(7) For Embraer material, contact Embraer S.A., Technical Publications Section (PC 060), Av. Brigadeiro Faria Lima, 2170—Putim—12227-901 Sao Jose dos Campos—SP—Brasil; telephone +55 12 3927-5852 or +55 12 3309-0732; fax +55 12 3927-7546; email distrib@embraer.com.br; internet flyembraer.com.

(8) You may view this material at the FAA, Airworthiness Products Section, Operational Safety Branch, 2200 South 216th St., Des Moines, WA. For information on the availability of this material at the FAA, call 206-231-3195.

(9) You may view this material at the National Archives and Records Administration (NARA). For information on the availability of this material at NARA, visit www.archives.gov/federal-register/cfr/ibr-locations, or email fr.inspection@nara.gov.

Issued on July 9, 2024.
Peter A. White,
Deputy Director, Integrated Certificate Management Division, Aircraft Certification Service.

[FR Doc. 2024-15340 Filed 7-17-24; 8:45 am]

BILLING CODE 4910-13-P